DEPARTMENT OF ENERGY

Proposed Agency Information Collection

AGENCY: Office of Energy Efficiency and Renewable Energy, U.S. Department of Energy.

ACTION: Notice and Request for Comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before March 3, 2008. If you anticipate difficulty in submitting comments within that period, contact the person listed below as soon as possible.

ADDRESSES: Comments may be sent to: Ms. Andrea Chew, Office of Energy Efficiency and Renewable Energy, U.S. Department of Energy, EE-2H, 1000 Independence Avenue, SW., Washington, DC 20585, by phone at 202-586-1145, fax at 202-586-9811, or e-mail at andrea.chew@ee.doe.gov.

FOR FURTHER INFORMATION CONTACT: Requests for additional information or copies of the information collection instrument and instructions should be directed to Ms. Andrea Chew using the contact information listed above.

SUPPLEMENTARY INFORMATION: This package contains:

(1) OMB No.: New.

(2) Package Title: Hydrogen and Fuel Cells Knowledge and Opinions Survey of Safety and Code Officials.

(3) Type of Review: New collection.

(4) Purpose: The Knowledge and Opinions Survey of Safety and Codes Officials will measure the levels of awareness and understanding of hydrogen and fuel cell technologies within this population. Information gathered in this assessment will assist DOE's Hydrogen Education Program in formulating an overall education plan for hydrogen technologies. Changes relative to baseline knowledge levels will be determined when, after three years, the population will be surveyed again using the same survey instrument and methodology.

(5) Respondents: Interviews with 200 total officials will be conducted using computer-assisted telephone interview technology. Lists of persons responsible for safety and codes will be compiled from the following universe: agencies responsible for developing codes related to hydrogen and fuel cell technologies, including members of the International Code Council and the National Fire Protection Association; and safety officials responsible for adopting, enacting, and/or enforcing codes related to buildings and fire safety, including members of the National Association of State Fire Marshals who are responsible for fire prevention and the International Association of State Fire Chiefs who are responsible for fire protection.

(6) Estimated Number of Burden Hours: 40 hours (12 minutes per interview times 200 respondents).

Statutory Authority: Department of Energy Organization Act, Public Law 95-91.

Issued in Washington, DC, on December 18, 2007.
Alexander A. Karsner,
Assistant Secretary, Energy Efficiency and Renewable Energy.

[FR Doc. E7-25567 Filed 1-2-08; 8:45 am]

BILLING CODE 6450-01-P